DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of eighteen individuals whose property and interests in property have been unblocked pursuant to Executive Order 12978 of October 21, 1995, Blocking Assets and Prohibiting Transactions With Significant Narcotics Traffickers.

DATES: The unblocking and removal from the list of Specially Designated Nationals and Blocked Persons (“SDN List”) of the individuals identified in this notice whose property and interests in property were blocked pursuant to Executive Order 12978 of October 21, 1995, is effective on October 19, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On October 19, 2010 the Director of OFAC removed from the SDN List the eighteen individuals listed below, whose property and interests in property were blocked pursuant to the Order:

1. ARCE GARCIA, Rodrigo Alberto, c/o AGRO MASCOTAS S.A., Bogota, Colombia; DOB 9 Jun 1963; Cedula No. 16699556 (Colombia); Passport 16699556 (Colombia) (individual) [SDNT].

2. BARRIOS SENIOR, Jario Ascanio, c/o PENTACOOP LTDA., Bogota, Colombia; DOB 18 Jun 1962; Cedula No. 8723099 (Colombia) (individual) [SDNT].

3. CARO PEREZ, Maria Eugenia, c/o COMEDICAMENTOS S.A., Bogota, Colombia; c/o FOGENSA S.A., Bogota, Colombia; c/o GLAJAN S.A., Bogota, Colombia; DOB 17 Sep 1971; Cedula No. 52583651 (Colombia); Passport 52583651 (Colombia) (individual) [SDNT].

4. CASTANEDA QUINTERO, Luis Alberto, c/o FARMACOOP, Bogota, Colombia; c/o PENTACOOP LTDA., Bogota, Colombia; c/o PENTA PHARMA DE COLOMBIA S.A., Bogota, Colombia; c/o LABORATORIOS KRESSFOR DE COLOMBIA S.A., Bogota, Colombia; c/o DECAFARMA S.A., Bogota, Colombia; DOB 12 Feb 1938; Cedula No. 6064977 (Colombia) (individual) [SDNT].

5. CASTANEDA RAMIREZ, Lorena Constanza, c/o PENTACOOP LTDA., Bogota, Colombia; c/o PENTA PHARMA DE COLOMBIA S.A., Bogota, Colombia; c/o DECAFARMA S.A., Bogota, Colombia; c/o DROCARD S.A., Bogota, Colombia; c/o DROMARCA Y CIA. S.C.S., Bogota, Colombia; c/o MATERIAS PRIMAS Y SUMINISTROS S.A., Bogota, Colombia; DOB 13 May 1971; Cedula No. 52071011 (Colombia); Passport 52071011 (Colombia) (individual) [SDNT].

6. DIAZ SANCHEZ, Alberto, Carrera 66 No. 5-23, Cali, Colombia; c/o CONCRETOS CALI S.A., Cali, Colombia; c/o CONSTRUCTORA DIMISA LTDA., Cali, Colombia; c/o INMOBILIARIA U.M.V. S.A., Cali, Colombia; DOB 2 Jan 1956; Cedula No. 16259623 (Colombia) (individual) [SDNT].

7. HUERTAS RAMIREZ, Jorge Luis, c/o REPRESENTACIONES Y DISTRIBUCIONES HUERTAS Y ASOCIADOS S.A., Bogota, Colombia; c/o DECAFARMA S.A., Bogota, Colombia; c/o LABORATORIOS KRESSFOR DE COLOMBIA S.A., Bogota, Colombia; c/o PRODUCTOS GALO Y CIA. LTDA., Bogota, Colombia; DOB 2 Apr 1951; Cedula No. 19134241 (Colombia); Passport 19134241 (Colombia) (individual) [SDNT].

8. JURADO CARDONA, Diego Maria, c/o MACROFARMA S.A., Pereira, Colombia; c/o FARMALIDER S.A., Cali, Colombia; Cedula No. 7526942 (Colombia); Passport 7526942 (Colombia) (individual) [SDNT].

9. LAVERDE GOMEZ, German, c/o CONSTRUCTORA ALTOS DEL RETIRO LTDA., Bogota, Colombia; DOB 20 Apr 1956; Cedula No. 79140380 (Colombia) (individual) [SDNT].

10. MORALES ROBLEDO, Nicolas Abdul, c/o AGRO MASCOTAS S.A., Bogota, Colombia; Cedula No. 16686544 (Colombia); Passport 16686544 (Colombia) (individual) [SDNT].

11. MORAN GUERRERO, Mario Fernando, c/o PENTACOOP LTDA., Bogota, Colombia; c/o PENTA PHARMA DE COLOMBIA S.A., Bogota, Colombia; c/o COINTERCOS S.A., Bogota, Colombia; c/o LABORATORIOS KRESSFOR, Bogota, Colombia; DOB 17 Mar 1965; Cedula No. 12983857 (Colombia) (individual) [SDNT].

12. PARRA RESTREPO, Diego, c/o AGRO MASCOTAS S.A., Bogota, Colombia; Cedula No. 6089400 (Colombia); Passport 6089400 (Colombia) (individual) [SDNT].

13. PARRA RESTREPO, Pedro Nel, c/o AGRO MASCOTAS S.A., Bogota, Colombia; Cedula No. 1211206 (Colombia); Passport 1211206 (Colombia) (individual) [SDNT].

14. RAMIREZ DE CASTANEDA, Maria (a.k.a. RAMIREZ RAMIREZ, Maria), c/o PENTA PHARMA DE COLOMBIA S.A., Bogota, Colombia; c/o PENTACOOP LTDA., Bogota, Colombia; c/o DECAFARMA S.A., Bogota, Colombia; DOB 8 Dec 1943; Cedula No. 31226330 (Colombia) (individual) [SDNT].

RAMIREZ RAMIREZ, Maria (a.k.a. RAMIREZ DE CASTANEDA, Maria), c/o PENTA PHARMA DE COLOMBIA S.A., Bogota, Colombia; c/o PENTACOOP LTDA., Bogota, Colombia; c/o DECAFARMA S.A., Bogota, Colombia; DOB 8 Dec 1943; Cedula No. 31226330 (Colombia) (individual) [SDNT].

15. RENDON RODRIGUEZ, Maria Fernanda, c/o DISMERCOOP, Cali, Colombia; Cedula No. 38864017 (Colombia) (individual) [SDNT].

16. ROJAS GALARZA, Carmen Amparo, Carrera 35 No. 10-130, Cali, Colombia; c/o CREDIREBAJA S.A., Cali, Colombia; Cedula No. 34511289 (Colombia) (individual) [SDNT].

17. ROJAS SALAMANCA, Myriam, c/o GENERICOS ESPECIALES S.A., Bogota, Colombia; c/o LABORATORIOS KRESSFOR DE COLOMBIA S.A., Bogota, Colombia; c/o LEMOFAR LTDA., Bogota, Colombia; DOB 3 Apr 1959; Cedula No. 35324270 (Colombia); Passport 35324270 (Colombia) (individual) [SDNT].

18. SANCHEZ VARILLA, Luis Manuel; DOB 1 Feb 1964; Cedula No. 8174649 (Colombia) (individual) [SDNTK].

Dated: October 19, 2010.
Adam J. Szubin,
Director, Office of Foreign Assets Control.

[FR Doc. 2010-26807 Filed 10-22-10; 8:45 am]

BILLING CODE 4810-AL-P